DEPARTMENT OF ENERGY

Federal Energy Regulatory Commission

[Docket No. EG03-62-000, et al.]

New Millennium Power Partners. LLC, et al.; Electric Rate and Corporate Filings

May 1, 2003.

The following filings have been made with the Commission. The filings are listed in ascending order within each docket classification.

1. New Millennium Power Partners, LLC

[Docket No. EG03-62-000]

Take notice that on April 29, 2003, New Millennium Power Partners, LLC (New Millennium) filed with the Federal Energy Regulatory Commission (Commission) an application for determination of exempt wholesale generator status pursuant to Section 32(a)(1) of the Public Utility Holding Company Act of 1935, as amended. New Millennium states that it is a limited liability company that will be engaged directly or indirectly and exclusively in the business of owning or operating, or both owning and operating an eligible facility (Millennium Project), consisting of a natural gas-fired, combined cycle power plant of approximately 360 megawatts of capacity in Charlton, Massachusetts. New Millennium states that the Millennium Project commenced commercial operation in April 2001. New Millennium indicates that all output from the Millennium Project will be sold by New Millennium exclusively at wholesale.

New Millennium states that copies of the Application have been served upon the U.S. Securities and Exchange Commission, the Massachusetts Department of Telecommunications and Energy and the California Public Utilities Commission.

Comment Date: May 22, 2003.

2. New Harquahala Generating Co., LLC

[Docket No. EG03-63-000]

Take notice that on April 29, 2003, New Harquahala Generating Co., LLC (New Harquahala) filed with the Federal Energy Regulatory Commission (Commission) an application for determination of exempt wholesale generator status pursuant to Section 32(a)(1) of the Public Utility Holding Company Act of 1935, as amended. New Harquahala states that it is a limited liability company that will be engaged directly or indirectly and exclusively in the business of owning or operating, or both owning and operating an eligible facility (Harquahala Project), consisting of a natural gas-fired, combined cycle power plant of approximately 1,050 megawatts of capacity in Maricopa County, Arizona. Harquahala states that the Harquahala Project is expected to commence commercial operation in the third quarter of 2003, and that all output from the Harquahala Project will be sold by New Harquahala exclusively at wholesale.

Harquahala further states that copies of the Application have been served upon the U.S. Securities and Exchange Commission, the Arizona Corporation Commission and the California Public Utilities Commission.

Comment Date: May 22, 2003.

3. New Athens Generating Company, LLC

[Docket No. EG03-64-000]

Take notice that on April 29, 2003, New Athens Generating Company, LLC (New Athens) filed with the Federal Energy Regulatory Commission (Commission) an application for determination of exempt wholesale generator status pursuant to Section 32(a)(1) of the Public Utility Holding Company Act of 1935, as amended. New Athens states that it is a limited liability company that will be engaged directly or indirectly and exclusively in the business of owning or operating, or both owning and operating an eligible facility (Athens Project), consisting of a natural gas-fired, combined cycle power plant of approximately 1,080 megawatts of capacity in Greene County, New York. New Athens states that the Athens Project is expected to commence commercial operation in the third quarter of 2003, and that all output from the Athens Project will be sold by New Athens exclusively at wholesale.

New Athens states that copies of the Application have been served upon the Securities and Exchange Commission, the New York Public Service Commission and the California Public Utilities Commission.

Comment Date: May 22, 2003.

4. New Covert Generating Co., LLC

[Docket No. EG03-65-000]

Take notice that on April 29, 2003, New Covert Generating Co., LLC (New Covert) filed with the Federal Energy Regulatory Commission (Commission) an application for determination of exempt wholesale generator status pursuant to Section 32(a)(1) of the Public Utility Holding Company Act of 1935, as amended. New Covert states that it is a limited liability company that will be engaged directly or indirectly and exclusively in the business of owning or operating, or both owning and operating an eligible facility (the Covert Project), consisting of a natural gas-fired, combined cycle power plant of approximately 1,170 megawatts of capacity in Covert Township, Van Buren County, Michigan. New Covert states that the Covert Project is expected to commence commercial operation in the fall of 2003, and that all output from the Covert Project will be sold by New Covert exclusively at wholesale.

New Covert states that copies of the Application have been served upon the U.S. Securities and Exchange Commission, the Michigan Public Service Commission, and the California Public Utilities Commission.

Comment Date: May 22, 2003.

5. Allegheny Energy Supply Conemaugh, LLC

[Docket No. EG03-66-000]

Take notice that on April 29, 2003 Allegheny Energy Supply Conemaugh, LLC (Allegheny Conemaugh) filed an Application for Determination of Exempt Wholesale Generator Status with the Federal Energy Regulatory Commission (Commission) pursuant to Section 32(a)(1) of the Public Utility Holding Company Act of 1935, as amended (PUHCA), all as more fully explained in the Application.

Allegheny Conemaugh states that it is a Delaware limited liability company whose membership interest is wholly-owned by Allegheny Energy Supply Company, LLC, approximately 98 percent of whose membership interest is in turn owned by Allegheny Energy, Inc., a registered public utility holding company under PUHCA.

Comment Date: May 22, 2003.

6. Midwest Independent Transmission System Operator, Inc.

[Docket Nos. ER98-1438-018, ER02-111-008]

Take notice that on April 25, 2003, the Midwest Independent Transmission System Operator, Inc. (Midwest ISO) tendered for filing proposed revisions to the Midwest ISO Open Access Transmission Tariff, FERC Electric Tariff, Second Revised Volume No. 1, in compliance with the Commission's Order in Midwest Independent Transmission System Operator Inc., 103 FERC ¶ 61,038. The Midwest ISO has requested an effective date of April 1, 2003 consistent with the Commission's Order on compliance.

The Midwest ISO states that it has also requested waiver of the service requirements set forth in 18 CFR 385.2010. The Midwest ISO indicates that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO indicates that it will provide hard copies to any interested parties upon request.

Comment Date: May 16, 2003.

7. Conectiv Energy Supply, Inc.

[Docket No. ER00-1770-005]

Take notice that on April 25, 2003, Conectiv Atlantic Generation (CAG) and Conectiv Delmarva Generation (CDG) tendered for filing their triennial market power analysis in support of its market-based rate authority in compliance with the Commission's April 2t, 2000, Order accepting CAG's and CDG's updated market-based tariffs. Conectiv Energy Supply, Inc., 91 FERC ¶ 61,076.

Comment Date: May 16, 2003.

8. Midwest Independent Transmission System Operator, Inc.

[Docket No. ER02-108-009]

Take notice that on April 25, 2003, the Midwest Independent Transmission System Operator, Inc. (Midwest ISO) submitted for filing proposed revisions to Attachment S-1 (Independent Market Monitor Retention Agreement) and Exhibit A of Attachment S-1 (Independent Market Monitor Conflicts Policy) of the Midwest ISO Open Access Transmission Tariff (OATT), FERC Electric Tariff, Second Revised Volume No. 1, in order to correctly reference and include the Market Monitor Conflicts Policy as Exhibit A to Attachment S-1.

The Midwest ISO has requested waiver of the Commission's sixty (60)-day notice provision of Section 205 of the Federal Power Act in order to accommodate an effective date of December 23, 2002, the same effective date as Attachment S-1.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO indicates that it will provide hard copies to any interested parties upon request.

Comment Date: May 16, 2003.

9. Idaho Power Company

[Docket No. ER03-66-003]

Take notice that on April 28, 2003, Idaho Power Company submitted revisions to its January 27, 2003, compliance filing in Docket No. ER03-66-002.

Comment Date: May 19, 2003.

10. Southern Company Services, Inc.

[Docket No. ER03-211-003ER03-212-003]

Take notice that on April 28, 2003, Southern Company Services, Inc. (SCS), on behalf of Georgia Power Company, submitted a compliance filing in accordance with the Federal Energy Regulatory Commission's Order issued March 28, 2003, in Southern Company Services, Inc., 102 FERC ¶ 61,343.

Comment Date: May 19, 2003.

11. American Electric Power Service Corporation, Commonwealth Edison Company, The Dayton Power and Light Company, and PJM Interconnection, LLC

[Docket No. ER03-262-002]

Take notice that on April 23, 2003, American Electric Power Service Corporation on behalf of Appalachian Power Service Company, Columbus Southern Power Company, Indiana Michigan Power Company, Kentucky Power Company, Kingsport Power Company, Ohio Power Company and Wheeling Power Company; Commonwealth Edison Company and Commonwealth Edison Company of Indiana, Inc.; and The Dayton Power and Light Company (Dayton) (collectively the Companies) filed part 33 information in compliance with the Commission's April 1, 2003 Order and in support of approval for Dayton's proposed transfer. The Companies state that the information relates to a proposal to transfer functional control over their transmission systems to a Regional Transmission Organization, PJM Interconnection, L.L.C.

Comment Date: May 14, 2003.

12. Midwest Independent Transmission System Operator, Inc.

[Docket No. ER03-323-003]

Take notice that on April 28, 2003, the Midwest Independent Transmission System Operator, Inc. (Midwest ISO) submitted its proposed errata filing to Attachment S-2 (Market Mitigation Measures) of the Midwest ISO Open Access Transmission Tariff (OATT), FERC Electric Tariff, Second Revised Volume No. 1, in order to correctly reference and include changes to Attachment S-2 as required by the Commission's March 13 Order. The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter. The Midwest ISO indicates that it will provide hard copies to any interested parties upon request.

Comment Date: May 19, 2003.

13. Wolverine Power Supply Cooperative, Inc.

[Docket No. ER03-607-001]

Take notice that on April 28, 2003, Wolverine Power Supply Cooperative, Inc., (Wolverine) tendered as a compliance filing a Facilities Agreement for Construction of a Wood-style Substation and Tap between Wolverine Power Supply Cooperative, Inc. and Great Lakes Energy Cooperative. Wolverine states that it designated the Facilities Agreement as Service Agreement No. 5 to Wolverine's OATT, FERC Electric Tariff, First Revised Volume No. 1.

Wolverine states that a copy of this filing has been served upon Great Lakes Energy Cooperative and the Michigan Public Service Commission.

Comment Date: May 19, 2003.

14. Black Rock Group, LLC

[Docket No. ER03-658-001]

Take notice that on April 25, 2003, Black Rock Group, LLC (Black Rock) filed an amendment to its application for market-based rates as a power marketer. Black Rock states that the additional information clarifies the description of Black Rock as an applicant. Black Rock states that it intends to engage in wholesale electric power and energy purchases and sales as a marketer. Black Rock states that it is not in the business of generating or transmitting electric power. Black Rock states that it may also engage in other, non jurisdictional, activities to facilitate efficient trade in the bulk power market, such as facilitating the purchase and sale of wholesale energy without taking title to the electricity (brokering), and arranging services in related areas such as transmission and fuel supplies.

Comment Date: May 16, 2003.

15. Midwest Independent Transmission System Operator, Inc.

[Docket No. ER03-776-000]

Take notice that on April 25, 2003, the Midwest Independent Transmission System Operator, Inc., (Midwest ISO) tendered for filing revisions to Attachment M (Losses) to the Midwest ISO Open Access Transmission Tariff (OATT), FERC Electric Tariff, Second Revised Volume No. 1.

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter.

Comment Date: May 16, 2003.

16. FirstEnergy Solutions Corp.

[Docket No. ER03-777-000]

Take notice that on April 25, 2003, FirstEnergy Solutions Corp. (Solutions) tendered for filing a Service Agreement under its Tariff for Sales of Ancillary Services and Interconnected Operations Services pursuant to which it is proposing to sell Regulation and Frequency Response Service to Duquesne Light Company. Solutions states that it has asked for waiver of any applicable requirements in order to make the Service Agreement effective as of April 29, 2003.

Solutions states that a copy of this filing has been sent to Duquesne Light Company.

Comment Date: May 16, 2003.

17. UNITIL Power Corp.

[Docket No.ER03-778-000]

Take notice that on April 28, 2003, UNITIL Power Corp., tendered for filing pursuant to Schedule II Section H of Supplement No. 1 to Rate Schedule FERC No. 1, the UNITIL System Agreement, the following material:

1. Statement of all sales and billing transactions for the period January 1, 2002 through December 31, 2002, along with the actual costs incurred by UNITIL Power Corp., by FERC account.

2. UNITIL Power Corp., rates billed from January 1, 2002 to December 31, 2002, and supporting rate development.

UNITIL Power Corp., states that a copy of the filing was served upon the New Hampshire Public Utilities Commission.

Comment Date: May 19, 2003.

18. Portland General Electric Company

[Docket No. ER03-779-000]

Take notice that on April 28, 2003, Portland General Electric Company (PGE) filed a Notice of Cancellation with the Federal Energy Regulatory Commission (Commission) pursuant to Sections 35.15 and 131.53 of the Commission's Rules and Regulations. PEG states that it seeks to cancel Service Agreement for Firm Point-to-Point Service with Enron Power Marketing, Inc., (EPMI) in Docket No. ER98-2104-000. PGE requests that the cancellation be made effective as of April 17, 2003.

Comment Date: May 19, 2003.

19. American Transmission Company LLC

[Docket No. ER03-780-000]

Take notice that on April 28, 2003, American Transmission Company LLC (ATCLLC) tendered for filing a Generation-Transmission Interconnection Agreement between ATCLLC and Wisconsin Public Service Corporation. ATCLLC requests an effective date of March 28, 2003.

ATCLLC states that copies of this filing have been sent to Public Service Commission of Wisconsin and Wisconsin Public Service Corporation.

Comment Date: May 19, 2003.

20. New England Power Company

[Docket No. ER03-781-000]

Take notice that on April 29, 2003, New England Power Company (NEP) submitted for filing Original Service Agreement No. 215 (Network Integration Transmission Service) between NEP and Taunton Municipal Lighting Plant under NEP's open access transmission tariff, New England Power Company, FERC Electric Tariff, Second Revised Volume No. 9.

Comment Date: May 20, 2003.

21. Rayo Energy LLP

[Docket No. ER03-782-000]

Take notice that on April 29, 2003, Rayo Energy LLP (REL) tendered for filing with the Federal Energy Regulatory Commission (Commission), an application for authority to sell electric energy, capacity and certain ancillary services at market-based rates under Section 205(a) of the Federal Power Act, 16 U.S.C. 824d(a), and accompanying requests for certain blanket approvals and for the waiver of certain Commission Regulations. REL requests an effective date of May 15, 2003.

Comment Date: May 20, 2003.

22. Southern California Edison Company

[Docket No. ER03-783-000]

Take notice that on April 29, 2003, Southern California Edison Company (SCE) tendered for filing a letter agreement (Letter Agreement) between SCE and the City of Rancho Cucamonga (Rancho Cucamonga). SCE respectfully requests an effective date of April 17, 2003.

SCE states that the purpose of this Letter Agreement is to provide an interim arrangement pursuant to which SCE will commence the engineering, design, and procurement of material and equipment for the interconnection facilities and distribution system facilities necessary to interconnect Rancho Cucamonga's Victoria Arbors development to SCE's distribution system and provide distribution service under SCE's Wholesale Distribution Access Tariff.

SCE states that copies of this filing were served upon the Public Utilities Commission of the State of California and Rancho Cucamonga.

Comment Date: May 20, 2003.

23. Ameren Services Company

[Docket No. ER03-784-000]

Take notice that on April 29, 2003, Ameren Services Company (ASC) tendered for filing unexecuted Service Agreements for Network Integration Transmission Service and a Network Operating Agreement between Ameren Services and Wayne-White Counties Electric Cooperative. Ameren Services asserts that the purpose of the Agreements is to permit Ameren Services to provide transmission service to Wayne-White Counties Electric Cooperative pursuant to Ameren's Open Access Tariff.

Comment Date: May 20, 2003.

24. Niagara Mohawk Power Corporation

[Docket No. ER03-785-000]

Take notice that on April 29, 2003, Niagara Mohawk Power Corporation (Niagara Mohawk) submitted for filing an amendment to Rate Schedule 204 between New York Power Authority and the City of Jamestown.

Comment Date: May 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-11380 Filed 5-6-03; 8:45 am]

BILLING CODE 6717-01-P